DEPARTMENT OF TRANSPORTATION

National Highway Traffic Safety Administration

[Docket No. NHTSA-xxxx-xxxx]

Reports, Forms, and Record Keeping Requirements

AGENCY: National Highway Traffic Safety Administration (NHTSA), Department of Transportation (DOT).

ACTION: Notice.

SUMMARY: The National Highway Traffic Safety Administration (NHTSA) is announcing an opportunity for public comment on the proposed collection of certain information by the Agency. Under the Paperwork Reduction Act of 1995 (the PRA), Federal Agencies are required to publish a notice in the Federal Register concerning each proposed collection of information and to allow 60 days for public comment in response to the notice. This notice solicits comments on an information collection supporting Driver Distraction Measurement Research.

DATES: Comments must be received on or before June 29, 2015.

ADDRESSES: You may submit comments using any of the following methods:

Electronic submissions: Go to http://www.regulations.gov. Follow the online instructions for submitting comments.

Mail: Docket Management Facility, M-30, U.S. Department of Transportation, West Building, Ground Floor, 1200 New Jersey Ave. SE., Room W12-140, Washington, DC 20590.

Hand Delivery: West Building Ground Floor, Room W12-140, 1200 New Jersey Avenue SE., Washington, DC, between 9 a.m. and 5 p.m., Monday through Friday, except Federal holidays. Fax: (202) 493-2251.

Instructions: Each submission must include the Agency name and the Docket number for this Notice. Note that all comments received will be posted without changes to http://www.regulations.gov including any personal information provided.

FOR FURTHER INFORMATION CONTACT: Elizabeth Mazzae, Applied Crash Avoidance Research Division, Vehicle Research and Test Center, NHTSA, 10820 State Route 347—Bldg. 60, East Liberty, Ohio 43319; Telephone (937) 666-4511; Facsimile: (937) 666-3590; email address: elizabeth.mazzae@dot.gov.

SUPPLEMENTARY INFORMATION: Under the Paperwork Reduction Act of 1995 (44 U.S.C. 3501-3520), before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d), an agency must ask for public comment on the following:

(i) Whether the proposed collection of information is necessary for the proper performance of the functions of the agency, including whether the information will have practical utility;

(ii) the accuracy of the agency's estimate of the burden of the proposed collection of information, including the validity of the methodology and assumptions used;

(iii) how to enhance the quality, utility, and clarity of the information to be collected;

(iv) how to minimize the burden of the collection of information on those who are to respond, including the use of appropriate automated, electronic, mechanical, or other technological collection techniques or other forms of information technology, e.g. permitting electronic submission of responses. In compliance with these requirements, NHTSA asks for public comments on the following proposed collection of information:

Title: Driver Distraction Measurement Research.

Type of Request: New collection.

OMB Clearance Number: None.

Form Number: NHTSA Form 1157.

Requested Expiration Date of Approval: Three years from date of approval.

Summary of the Collection of Information: NHTSA proposes to collect information from the public as part of a multi-study research effort that supports the development of measurement techniques for auditory-vocal interactions involving in-vehicle and portable devices. Questions will be asked in conjunction with driving experiments involving both driving simulator and visual occlusion apparatus research tools. The research will involve driving simulator-based experiments in which participants perform specific secondary tasks while driving. The questions will be used to assess individuals' suitability for study participation, to obtain ratings of task difficulty that can be compared to driving performance data, and to assess the incidence and severity of any discomfort stemming from driving the simulator.

Description of the Need for the Information and Proposed Use of the Information: The National Highway Traffic Safety Administration's (NHTSA) mission is to save lives, prevent injuries, and reduce healthcare and other economic costs associated with motor vehicle crashes. An April 2010 program plan document titled “Overview of the National Highway Traffic Safety Administration's Driver Distraction Program” announced multiple efforts to reduce the dangers associated with distracted driving. This research aims to inform the development of test procedures and criteria that could be used for voice systems.

Respondents: We estimate that 1,650 persons will complete at least a portion of the information collection. Respondents will be licensed drivers aged 18-70 years who drive at least 3,000 miles annually, are in good health, and do not require to assistive devices to safely operate a vehicle.

Estimated Number of Respondents: In support of this research, it is estimated that 1,650 individuals will complete the first set of screening questions and 1,400 will complete the second set of screening questions. Of the 1,400, it is estimated that 1,000 individuals will meet criteria for participation. From those 1,000, approximately 425 individuals will be chosen to produce a sample providing a balance of age and genders and will be scheduled for study participation.

Estimated Time per Response: Completion of the screening questions is estimated to take approximately 5 minutes for the first set and 10 minutes for the second set. The Rating Scale for Mental Effort (RSME) is estimated to take 2.5 minutes per participant and the simulator sickness questionnaire is estimated to take 2 minutes per participant.

Total Estimated Annual Burden: 176 hours.

Frequency of Collection: The data collection described will be performed once to obtain the target number of valid test participants.

Authority: 44 U.S.C. 3506(c)(2)(A).

Nathaniel Beuse,
Associate Administrator for Vehicle Safety Research.

[FR Doc. 2015-10009 Filed 4-29-15; 8:45 am]

BILLING CODE 4910-59-P